FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 017097N.

Name: Asian Development (NY) Int'l Transportation Corp.

Address: 168-01 Rockaway Blvd., Ste. 203, Jamaica, NY 11434.

Date Revoked: January 3, 2008.

Reason: Failed to maintain a valid bond.

License Number: 003672N.

Name: Astral Freight Services, Inc.

Address: 1418 NW 82nd Ave., Doral, FL 33126-1508.

Date Revoked: November 22, 2007.

Reason: Failed to maintain a valid bond.

License Number: 017871F.

Name: D & D Worldwide, Inc.

Address: 96 Linwood Plaza, #391, Fort Lee, NJ 07024.

Date Revoked: January 12, 2008.

Reason: Failed to maintain a valid bond.

License Number: 003134F

Name: Enterprise Forwarders, Inc.

Address: 2350 NW 93rd Ave., Miami, FL 33172

Date Revoked: January 2, 2008.

Reason: Failed to maintain a valid bond.

License Number: 003595NF.

Name: International Cargo Systems, Inc. dba ICS Oceanfreight.

Address: 440 McClellan Highway, E. Boston, MA 02128.

Date Revoked: October 19, 2007.

Reason: Surrendered license voluntarily.

License Number: 002688F.

Name: International Import Export Service Inc.

Address: 147-04 176th Street, Ste. 2W, Jamaica, NY 11434.

Date Revoked: January 21, 2008.

Reason: Surrendered license voluntarily.

License Number: 003387F.

Name: M. Bowers & Co., Inc.

Address: 521 Ala Moana Blvd., Ste. 210, Honolulu, HI 96813.

Date Revoked: December 26, 2007.

Reason: Failed to maintain a valid bond.

License Number: 013401N.

Name: Marco Polo Express International Inc.

Address: 2411 Santa Fe Ave., Ste. B, Redondo Beach, CA 90278.

Date Revoked: January 12, 2008.

Reason: Failed to maintain a valid bond.

License Number: 016126N.

Name: Motorvation Services Inc.

Address: P.O. Box 348, Tonawanda, NY 14151-0348.

Date Revoked: January 22, 2008.

Reason: Surrendered license voluntarily.

License Number: 003963N.

Name: Natural Freight Ltd. dba Bronco Container Lines.

Address : 225 Broadway, Ste. 2406, New York, NY 10007.

Date Revoked: January 3, 2008.

Reason: Failed to maintain a valid bond.

License Number: 013479N.

Name: Parthenon International Shipping, Inc.

Address: 439 20th Street, Brooklyn, NY 11215.

Date Revoked: January 5, 2008.

Reason: Failed to maintain a valid bond.

License Number: 016242NF.

Name: Pro Logistics, Inc.

Address: 1500 Midway Court, Ste. W-9, Elk Grove Village, IL 60007.

Date Revoked: January 9, 2008.

Reason: Failed To Maintain Valid Bonds.

License Number: 002535F.

Name: Pro Security Services, Inc.

Address: 3333 New Hyde Park Rd., Ste. 301, New Hyde Park, NY 11042.

Date Revoked: January 15, 2008.

Reason: Surrendered license voluntarily.

License Number: 017543F.

Name: Rank Shipping of Puerto Rico, Inc.

Address: Caribbean Airport Facilities Bldg., Ste. 216, LMM Int'l Airport Cargo Area, Carolina, PR 00979.

Date Revoked: December 26, 2007.

Reason: Failed to maintain a valid bond.

License Number: 010577N.

Name: Traders Freight Systems (U.S.A.) Inc. dba TFS Container Line.

Address: 516 North Diamond Bar Blvd., Ste. 386, Diamond Bar, CA 91765.

Date Revoked: January 5, 2008.

Reason: Failed to maintain a valid bond.

License Number: 003633F.

Name: Transcend Services, Inc.

Address: 10401 South Ashley Lane, Oak Creek, WI 53154-7910.

Date Revoked: December 26, 2007.

Reason: Surrendered license voluntarily.

License Number: 018113N.

Name: UFO International Freight Forwarder Corporation.

Address: 15224 West State Street, Westminster, CA 92683

Date Revoked: August 10, 2007.

Reason: Failed to maintain a valid bond.

License Number: 008404F.

Name: Ultimate Media Express Inc.

Address: 182-08 149th Ave., Springfield Gardens, NY 11434.

Date Revoked: January 2, 2008.

Reason: Failed to maintain a valid bond.

License Number: 018883NF.

Name: Wastaki Freight International, Inc.

Address: 9820 Atlantic Drive, Miramar, FL 33025.

Date Revoked: December 29, 2007.

Reason: Failed to maintain valid bonds.

Sandra L. Kusumoto,
Director, Bureau of Certification and Licensing.

[FR Doc. E8-2674 Filed 2-12-08; 8:45 am]

BILLING CODE 6730-01-P